DEPARTMENT OF HEALTH AND HUMAN SERVICES

Advisory Committee on Minority Health; Notice of Meeting Cancellation

The Office of Minority Health (OMH) published a notice in the Federal Register concerning a meeting of the Advisory Committee on Minority Health. The meeting scheduled for Tuesday, April 30, 2024 at 11 a.m. to 12:30 p.m. (EDT) is cancelled. The notice for the April 30, 2024 meeting was published in the Federal Register on Monday, April 1, 2024 in FR Doc. 2024-06850, on pages 22412-22413.

FOR FURTHER INFORMATION CONTACT: Violet Woo, Designated Federal Officer, OMH's Advisory Committee on Minority Health, OMH, HHS, Tower Building, 1101 Wootton Parkway, Suite 100, Rockville, Maryland 20852. Telephone: (240) 453-6816; Email: OMH-ACMH@hhs.gov.

Violet Woo,
Designated Federal Officer, Advisory Committee on Minority Health.

[FR Doc. 2024-08896 Filed 4-24-24; 8:45 am]

BILLING CODE 4150-29-P